DEPARTMENT OF VETERANS AFFAIRS

[OMB Control No. 2900-0017]

Agency Information Collection Activity Under OMB Review: VA Fiduciary's Account, Court Appointed Fiduciary's Account, Cert. of Bal. on Deposit and Auth. to Dis. Financial Record

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0017.”

FOR FURTHER INFORMATION CONTACT: Maribel Aponte, Office of Enterprise and Integration, Data Governance Analytics (008), 1717 H Street NW, Washington, DC 20006, (202) 266-4688 or email maribel.aponte@va.gov. Please refer to “OMB Control No. 2900-0017” in any correspondence.

SUPPLEMENTARY INFORMATION: Authority: Public Law 108-454, 502-504; 38 U.S.C. 5502.

Title: VA Fiduciary's Account (VA Form 21P-4706b), Court Appointed Fiduciary's Account (VA Form 21P-4706c), Cert. of Bal. on Deposit and Auth. to Dis. Financial Record(21P-4718a).

OMB Control Number: 2900-0017.

Type of Review: Extension Without Change of a Previously Approved Collection.

Abstract: VA Forms 21P-4706b, 21P-4706c, and 21P-4718a will be completed by VA-appointed fiduciaries of VA beneficiaries. The information will be used by VA fiduciary hub staff to determine whether an individual is an appropriate fiduciary and properly using and maintaining an accounting of the VA beneficiary's compensation or pension payments. VA continues to use the information provided on these forms in the oversight of VA-appointed fiduciaries.

An agency may not conduct or sponsor, and a person is not required to respond to a collection of information unless it displays a currently valid OMB control number. The Federal Register Notice with a 60-day comment period soliciting comments on this collection of information was published at 86 FR 161 on Tuesday, August 24, 2021, pages 47373 and 47374.

Affected Public: Individuals or Households.

Estimated Annual Burden: 17,720 hours.

Estimated Average Burden per Respondent: 20 minutes.

Frequency of Response: One time.

Estimated Number of Respondents: 53,159.

By direction of the Secretary.
Maribel Aponte,
VA PRA Clearance Officer, Office of Enterprise and Integration, Data Governance Analytics, Department of Veterans Affairs.

[FR Doc. 2021-23492 Filed 10-27-21; 8:45 am]

BILLING CODE 8320-01-P